SECURITIES AND EXCHANGE COMMISSION

Sunshine Act Meeting

Federal Register Citation of Previous Announcement: [76 FR 70781, November 15, 2011].

STATUS: Closed Meeting.

PLACE: 100 F Street, NW., Washington, DC.

DATE AND TIME OF PREVIOUSLY ANNOUNCED MEETING: November 17, 2011 at 2 p.m.

CHANGE IN THE MEETING: Deletion of Item.

The following item was not considered during the Closed Meeting on Thursday, November 17, 2011: adjudicatory matter.

At times, changes in Commission priorities require alterations in the scheduling of meeting items. For further information and to ascertain what, if any, matters have been added, deleted or postponed, please contact the Office of the Secretary at (202) 551-5400.

Dated: November 17, 2011.
Elizabeth M. Murphy,
Secretary.

[FR Doc. 2011-30190 Filed 11-18-11; 11:15 am]

BILLING CODE 8011-01-P